DEPARTMENT OF HEALTH AND HUMAN SERVICES

Centers for Disease Control and Prevention

[30Day-12-11JY]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC 20503 or by fax to (202) 395-5806. Written comments should be received within 30 days of this notice.

Proposed Project

Barriers to Occupational Injury Reporting by Workers: A NEISS-Work Telephone Interview Survey—New—National Institute for Occupational Safety and Health (NIOSH), Centers for Disease Control and Prevention (CDC).

Background and Brief Description

Each year about 5,400 workers die from a work-related injury and 4 million private industry workers report a nonfatal injury or illness. There are 3.4 million workers treated in U.S. hospital emergency departments annually for nonfatal occupational injuries and illnesses [1]. Although studies indicate that we have reduced the number of nonfatal injuries in recent decades, there is evidence that nonfatal occupational injury surveillance significantly underreports workplace injuries. This presumed undercount potentially decreases health and safety funding because of a false sense of improvement and increases the misdirection of scarce safety and health resources. It is this basic need for reliable and comprehensive occupational injury surveillance that led to the 1987 National Academy of Science report Counting Injuries and Illnesses in the Workplace—Proposals for a Better System [6] and the 2008 Congressional report Hidden Tragedy: Underreporting of Workplace Injuries and Illnesses [1].

The proposed pilot research addresses two facets of nonfatal occupational injury reporting noted in these reports—understanding barriers and incentives to reporting occupational injuries and using this knowledge to assess and improve our surveillance activities. The objectives of this project are to (1) Characterize and quantify the relative importance of incentives and disincentives to self-identifying work-relatedness at the time of medical treatment and to employers; (2) characterize individual and employment characteristics that are associated with non-reporting of workplace injuries and incentives and disincentives to reporting; (3) test the reliability of hospital abstractors to properly distinguish between work-related and non-work-related injuries; and (4) evaluate the feasibility, need, and requirements for a future larger study.

This project will use the occupational and the all injuries supplements to the National Electronic Injury Surveillance System (NEISS-Work and NEISS-AIP, respectively) to identify telephone interview survey participants. NEISS-Work and NEISS-AIP, collected by the Consumer Product Safety Commission (CPSC), capture people who were treated in the emergency department (ED) for a work-related illness or injury (NEISS-Work) or any injury, regardless of work-relatedness (NEISS-AIP). Interview respondents will come from two subgroups—individuals treated for a work-related injury and individuals who were treated for a non-work-related injury but who were employed during the time period that the injury occurred.

Data collection for the telephone interview survey will be done via a questionnaire. This questionnaire contains questions about the respondent's injury that sent them to the ED, the characteristics of the job they were working when they were injured, their experiences reporting their injury to the ED and their employer (if applicable), and their beliefs about the process and subsequent consequences of reporting an injury. The questionnaire was designed to take 30 minutes to complete. Individuals who were not employed at the time the injury occurred or was made worse; who are younger than age 20 or older than age 64; who do not speak English; who were employed on a farm or ranch or were self-employed, an independent contractor, or a day laborer at the time of injury; who did not experience an acute injury; or who missed more than three days from work because of the injury will be screened out at the beginning of the interview.

Approximately 1200 interviews will be completed over the two year period of the study. The only cost to the respondent will be the cost of their time spent on the phone completing the telephone interview survey. The estimated annualized burden hours are 300.

Estimated Annualized Burden Hours
Type of respondent | No. of respondents | Average burden per response (in hours)
U.S. workers presenting to an emergency department | 600 | 30/60

Dated: January 12, 2012.
Kimberly Lane,
Reports Clearance Officer, Centers for Disease Control and Prevention.

[FR Doc. 2012-924 Filed 1-18-12; 8:45 am]

BILLING CODE 4163-18-P